DEPARTMENT OF ENERGY

Federal Energy Regulatory Commission

Combined Notice of Filings #1

Take notice that the Commission received the following electric rate filings:

Docket Numbers: ER17-2059-002.

Applicants: Puget Sound Energy, Inc., Brea Generation LLC, Brea Power II, LLC.

Description: Informational update to November 15, 2018 Notice of Non-Material Change in Status of Puget Sound Energy, Inc., et al.

Filed Date: 5/1/19.

Accession Number: 20190501-5456.

Comments Due: 5 p.m. ET 5/22/19.

Docket Numbers: ER18-2337-001.

Applicants: Blackstone Wind Farm, LLC.

Description: Report Filing: Refund Report Filing to be effective N/A.

Filed Date: 5/14/19.

Accession Number: 20190514-5003.

Comments Due: 5 p.m. ET 6/4/19.

Docket Numbers: ER19-81-000.

Applicants: Athens Energy, LLC.

Description: Errata to April 26, 2019 Athens Energy, LLC tariff filing (Attachment 1).

Filed Date: 5/8/19.

Accession Number: 20190508-5117.

Comments Due: 5 p.m. ET 5/29/19.

Docket Numbers: ER19-1515-000.

Applicants: FirstEnergy Service Company, American Transmission Systems, Incorporated, Mid-Atlantic Interstate Transmission, LLC, West Penn Power Company.

Description: Supplement to April 2, 2019 Application for Incentive Rates for PJM RTEP Generator Deactivation Project, et al. of FirstEnergy Service Company on behalf of its affected affiliates.

Filed Date: 5/13/19.

Accession Number: 20190513-5203.

Comments Due: 5 p.m. ET 5/20/19.

Docket Numbers: ER19-1828-000.

Applicants: PJM Interconnection, L.L.C.

Description: § 205(d) Rate Filing: Amendment to ISA, SA No. 5224; Queue No. AB2-060 to be effective 10/3/2018.

Filed Date: 5/13/19.

Accession Number: 20190513-5186.

Comments Due: 5 p.m. ET 6/3/19.

Docket Numbers: ER19-1829-000.

Applicants: Central Maine Power Company.

Description: Tariff Cancellation: Notice of Termination of Small Generator Interconnection Agr. with Wight Brook to be effective 4/17/2019.

Filed Date: 5/13/19.

Accession Number: 20190513-5188.

Comments Due: 5 p.m. ET 6/3/19.

Docket Numbers: ER19-1830-000.

Applicants: Public Service Company of Colorado.

Description: § 205(d) Rate Filing: 20190514 Joint Dispatch Agreement_Addition of Colorado Springs Utilities to be effective 7/15/2019.

Filed Date: 5/14/19.

Accession Number: 20190514-5000.

Comments Due: 5 p.m. ET 6/4/19.

Docket Numbers: ER19-1831-000.

Applicants: Public Service Company of Colorado.

Description: § 205(d) Rate Filing: 20190514_Nature of Joint Dispatch_Addition of Colorado Springs Utilities to be effective 7/15/2019.

Filed Date: 5/14/19.

Accession Number: 20190514-5001.

Comments Due: 5 p.m. ET 6/4/19.

Docket Numbers: ER19-1832-000.

Applicants: Vermont Transco LLC.

Description: Petition for Limited Waiver of Tariff Provisions, et al. of Vermont Transco LLC.

Filed Date: 5/13/19.

Accession Number: 20190513-5204.

Comments Due: 5 p.m. ET 5/20/19.

Docket Numbers: ER19-1833-000.

Applicants: El Paso Electric Company.

Description: § 205(d) Rate Filing: Rate Schedule No. 119 EPE Newman Engineering & Procurement Agreement to be effective 5/15/2019.

Filed Date: 5/14/19.

Accession Number: 20190514-5040.

Comments Due: 5 p.m. ET 6/4/19.

Docket Numbers: ER19-1834-000.

Applicants: Pypha Energy LLC.

Description: Notice of Cancellation of Market-Based Rate Tariff of Pypha Energy LLC.

Filed Date: 5/14/19.

Accession Number: 20190514-5042.

Comments Due: 5 p.m. ET 6/4/19.

Docket Numbers: ER19-1835-000.

Applicants: Public Service Company of Oklahoma.

Description: § 205(d) Rate Filing: PSO-AEPOTC-OGE Maple Rd Delivery Point Agreement to be effective 4/19/2019.

Filed Date: 5/14/19.

Accession Number: 20190514-5048.

Comments Due: 5 p.m. ET 6/4/19.

Docket Numbers: ER19-1836-000.

Applicants: AEP Texas Inc.

Description: § 205(d) Rate Filing: AEPTX-Formosa Utility Venture IA 1st Amend & Restated to be effective 4/30/2019.

Filed Date: 5/14/19.

Accession Number: 20190514-5054.

Comments Due: 5 p.m. ET 6/4/19.

Docket Numbers: ER19-1837-000.

Applicants: California Independent System Operator Corporation.

Description: § 205(d) Rate Filing: 2019-05-14 Traiff Clarifications Amendment to be effective 8/12/2019.

Filed Date: 5/14/19.

Accession Number: 20190514-5056.

Comments Due: 5 p.m. ET 6/4/19.

Docket Numbers: ER19-1838-000.

Applicants: Midcontinent Independent System Operator, Inc.

Description: § 205(d) Rate Filing: 2019-15-14_SA 3161 Termination of ATC-WPL Project Commitment Agrmt (Edgerton) to be effective 5/15/2019.

Filed Date: 5/14/19.

Accession Number: 20190514-5068.

Comments Due: 5 p.m. ET 6/4/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 14, 2019.
Nathaniel J. Davis, Sr.,
Deputy Secretary.

[FR Doc. 2019-10425 Filed 5-17-19; 8:45 am]

BILLING CODE 6717-01-P